DEPARTMENT OF TRANSPORTATION

Federal Aviation Administration

14 CFR Parts 119, 121, 135, and 145

[Docket No. FAA-2003-15085; Notice No. 03-08]

RIN 2120-AG75

Hazardous Materials Training Requirements; Extension of Comment Period

AGENCY: Federal Aviation Administration (FAA), DOT.

ACTION: Notice of proposed rulemaking (NPRM); extension of comment period.

SUMMARY: This action extends the comment period for an NPRM that was published on May 8, 2003. In that document, the FAA proposed to amend its hazardous materials (hazmat) training requirements for certain air carriers and commercial operators and to require that certain repair stations document for the FAA that persons handling hazmat for transportation have been trained as required by the Department of Transportation's Hazardous Materials Regulations. This extension is a result of requests from the Aeronautical Repair Station Association and the Air Transport Association.

DATES: Comments must be received on or before September 5, 2003.

ADDRESSES: You may submit comments (identified by docket number FAA-2003-15085) by any of the following methods:

• Web Site: http://dms.dot.gov. Follow the instructions for submitting comments on the DOT electronic docket site.

• Fax: 1-202-493-2251.

• Mail: Docket Management Facility; U.S. Department of Transportation, 400 Seventh Street, SW., Nassif Building, Room PL-401, Washington, DC 20590-001.

• Hand Delivery: Room PL-401 on the plaza level of the Nassif Building, 400 Seventh Street, SW., Washington, DC, between 9 am and 5 pm, Monday through Friday, except Federal Holidays.

• Federal Rulemaking Portal: Go to http://www.regulations.gov. Follow the online instructions for submitting comments.

All submissions must include the agency name and docket number or Regulatory Identification Number (RIN) for this rulemaking. For detailed instructions on submitting comments and additional information on the rulemaking process, see the discussion of “Public Participation” under the SUPPLEMENTARY INFORMATION section of this document. Note that all comments received will be posted without change to http://dms.dot.gov, including any personal information provided. Please see the discussion of “Privacy Act” under the SUPPLEMENTARY INFORMATION section of this document.

For access to the docket to read background documents or comments received, go to http://dms.dot.gov at any time, or to Room PL-401 on the plaza level of the Nassif Building, 400 Seventh Street, SW., Washington, DC, between 9 am and 5 pm, Monday through Friday, except Federal holidays.

FOR FURTHER INFORMATION CONTACT: William Wilkening, Hazardous Materials Division, ASI-300, Federal Aviation Administration, 800 Independence Ave., SW., Washington, DC 20591; telephone: (202) 267-9864; facsimile (202) 267-9788.

SUPPLEMENTARY INFORMATION:

Public Participation

The FAA invites interested persons to participate in this rulemaking by submitting written comments, data, or views. We also invite comments relating to the economic, environmental, energy, or federalism impacts that might result from adopting the proposals in this document. The most helpful comments reference a specific portion of the proposal, explain the reason for any recommended change, and include supporting data. We ask that you send us two copies of written comments.

We will file in the docket all comments we receive, as well as a report summarizing each substantive public contact with FAA personnel concerning this proposed rulemaking. The docket is available for public inspection before and after the comment closing date. If you wish to review the docket in person, go to the address in the ADDRESSES section of this preamble between 9 a.m. and 5 p.m., Monday through Friday, except Federal holidays. You may also review the docket using the Internet at the web address in the ADDRESSES section.

Before acting on this proposal, we will consider all comments we receive on or before the closing date for comments. We will consider comments filed late if it is possible to do so without incurring expense or delay. We may change this proposal in light of the comments we receive.

If you want the FAA to acknowledge receipt of your comments on this proposal, include with your comments a pre-addressed, stamped postcard on which the docket number appears. We will stamp the date on the postcard and mail it to you.

Privacy Act

Anyone is able to search the electronic form of all comments received into any of our dockets by the name of the individual submitting the comment (or signing the comment, if submitted on behalf of an association, business, labor union, etc.). You may review DOT's complete Privacy Act statement in the Federal Register published on April 11, 2000 (65 FR 19477-19478) or you may visit http://dms.dot.gov.

Background

On May 8, 2003, the FAA issued an NPRM on “Hazardous Materials Training Requirements” (65 FR 24810; May 8, 2003). Comments to that document were to be received on or before July 7, 2003.

By letters dated May 14, 2003, the Aeronautical Repair Station Association (ARSA) and the Air Transport Association (ATA) requested that the FAA extend the comment period on the NPRM for 60 days. ARSA stated that, considering the potential financial burden and substantive impact of the NPRM, it wants to conduct a survey of its members so that it can provide the FAA with meaningful comments. ATA stated that it wants more time to adequately develop its comments on the proposed changes to rules that have been in place for over 25 years.

Extension of Comment Period

In accordance with § 11.29 (c) of title 14, Code of Federal Regulations, the FAA has reviewed the requests from ARSA and ATA for extension of the comment period. These petitioners have shown a substantive interest in the proposed rule and good cause for the extension. The FAA has determined that extension of the comment period is consistent with the public interest, and that good cause exists for taking this action.

Accordingly, the comment period is extended until September 5, 2003.

Issued in Washington, DC, on June 27, 2003.
Ross Hamory,
Director, Security and Investigations.

[FR Doc. 03-17107 Filed 7-2-03; 11:37 am]

BILLING CODE 4910-13-P